DEPARTMENT OF TRANSPORTATION

Coast Guard

33 CFR Part 117

[CGD01-02-105]

Drawbridge Operation Regulations: Harlem River, NY

AGENCY: Coast Guard, DOT.

ACTION: Notice of temporary deviation from regulations.

SUMMARY: The Commander, First Coast Guard District, has issued a temporary deviation from the drawbridge operation regulations for the 103 Street (Wards Island) Bridge, mile 0.0, across the Harlem River at New York. This temporary deviation will allow the bridge to remain closed to navigation from 8 a.m. on September 23, 2002 through 5 p.m. on November 20, 2002. This temporary deviation is necessary to facilitate painting operations at the bridge.

DATES: This deviation is effective from September 23, 2002 through November 20, 2002.

FOR FURTHER INFORMATION CONTACT: Joe Arca, Project Officer, First Coast Guard District, at (212) 668-7165.

SUPPLEMENTARY INFORMATION: The bridge owner, New York City Department of Transportation, requested a temporary deviation from the drawbridge operating regulations to facilitate necessary maintenance, to install paint containment, scaffold, and implement painting operations, at the bridge. The installation of the paint containment and scaffold, necessary to conduct painting operations, require the bridge to remain in the closed position.

Under this temporary deviation the 103 Street (Wards Island) Bridge may remain closed to vessel traffic from 8 a.m. on September 23, 2002 through 5 p.m. on November 20, 2002.

This deviation from the operating regulations is authorized under 33 CFR 117.35, and will be performed with all due speed in order to return the bridge to normal operation as soon as possible.

Dated: September 12, 2002.
V.S. Crea,
Rear Admiral, U.S. Coast Guard, Commander, First Coast Guard District.

[FR Doc. 02-24664 Filed 9-26-02; 8:45 am]

BILLING CODE 4910-15-P